DEPARTMENT OF THE INTERIOR

Fish and Wildlife Service

[FWS-R4-ES-2020-N147; FXES11130900000C2-201-FF09E32000]

Endangered and Threatened Wildlife and Plants; Initiation of 5-Year Status Reviews for 37 Southeastern Species

AGENCY: Fish and Wildlife Service, Interior.

ACTION: Notice of initiation of reviews; request for information.

SUMMARY: We, the U.S. Fish and Wildlife Service, are initiating 5-year status reviews for 37 species under the Endangered Species Act, as amended. A 5-year review is an assessment of the best scientific and commercial data available at the time of the review. We are requesting submission of any such information that has become available since the previous status review for each species.

DATES: To allow us adequate time to conduct these reviews, we must receive your comments or information on or before August 23, 2021. However, we will continue to accept new information about any listed species at any time.

ADDRESSES: For instructions on how and where to request or submit information, see Request for New Information under SUPPLEMENTARY INFORMATION.

FOR FURTHER INFORMATION CONTACT:

General Information: Aaron Valenta, (404) 679-4144, via email at aaron_valenta@fws.gov, and via U.S. mail at U.S. Fish and Wildlife Service, 1875 Century Boulevard, Atlanta, GA 30345.

Species-Specific Information and Submission of Comments: Please refer to Request for New Information under SUPPLEMENTARY INFORMATION.

Individuals who are hearing impaired or speech impaired may call the Federal Relay Service at 1-800-877-8339 for TTY assistance.

SUPPLEMENTARY INFORMATION: We, the U.S. Fish and Wildlife Service, are initiating 5-year status reviews under the Endangered Species Act of 1973, as amended (ESA; 16 U.S.C. 1531 et seq.), for 17 plant and 20 animal species. A 5-year status review is based on the best scientific and commercial data available at the time of the review; therefore, we are requesting submission of any such information that has become available since the last review for the species, particularly information on the status, threats, and recovery of the species that may have become available.

Why do we conduct 5-year reviews?

Under the ESA, we maintain Lists of Endangered and Threatened Wildlife and Plants (which we collectively refer to as the List) in title 50 of the Code of Federal Regulations at 50 CFR 17.11(h) (for wildlife) and 50 CFR 17.12(h) (for plants). Listed wildlife and plants can also be found at: http://ecos.fws.gov/tess_public/pub/listedAnimals.jsp and http://ecos.fws.gov/tess_public/pub/listedPlants.jsp, respectively. Section 4(c)(2)(A) of the ESA requires us to review each listed species' status at least once every 5 years. Our regulations at 50 CFR 424.21 require that we publish a notice in the Federal Register announcing species under active review. On the basis of such reviews under section 4(c) (2)(B), we determine whether any species should be removed from the list (i.e., delisted) or reclassified from endangered to threatened or from threatened to endangered (16 U.S.C. 1533(c)(2)(B)). Using the best scientific and commercial data available, we will consider a species for delisting if the data substantiate that the species is neither endangered nor threatened for one or more of the following reasons: (1) The species is considered extinct; (2) the species is considered to be recovered; and/or (3) the original data available when the species was listed, or the interpretation of such data, were in error. Any change in Federal classification would require a separate rulemaking process. For additional information about 5-year reviews, refer to our fact sheet at http://www.fws.gov/endangered/what-we-do/recovery-overview.html.

Which species are under review?

This notice announces our active 5-year status reviews of the species in the following table.

Common name/ scientific name | Contact person, email, phone | Status (endangered or threatened) | States where the species is known to occur | Final listing rule (Federal Register citation and publication date) | Contact's mailing address
ANIMALS
Birds
Crow, white-necked (Corvus leucognaphalus) | José Cruz-Burgos, caribbean_es@fws.gov, 787-851-7297 | Endangered | Dominican Republic, Haiti | 56 FR 13598; 4/3/1991 | USFWS, Road 301, Km 5.1, P.O. Box 491, Boquerón, PR 00622.
Warber, Elfin-woods (Setophaga angelae) | Iván Llerandi-Román, caribbean_es@fws.gov, 787-851-7297 | Threatened | Puerto Rico | 81 FR 40534; 6/22/2016 | USFWS, Road 301, Km 5.1, P.O. Box 491, Boquerón, PR 00622.
Tern, Roseate (Sterna dougallii dougallii) | Maritza Vargas, caribbean_es@fws.gov, 787-851-7297 | Threatened | Western Hemisphere and adjacent oceans (Florida, Puerto Rico, and Virgin Islands) | 52 FR 42064; 11/2/1987 | USFWS, Road 301, Km 5.1, P.O. Box 491, Boquerón, PR 00622.
Reptiles
Anole, Culebra Island giant (Anolis roosevelti) | Ángel Colón Santiago, caribbean_es@fws.gov, 787-851-7297 | Endangered | Puerto Rico | 42 FR 37371; 7/21/1977 | USFWS, Road 301, Km 5.1, P.O. Box 491, Boquerón, PR 00622.
Iguana, Mona ground (Cyclura stejnegeri) | Jan P. Zegarra, caribbean_es@fws.gov, 787-851-7297 | Threatened | Puerto Rico | 43 FR 4618; 2/3/1978 | USFWS, Road 301, Km 5.1, P.O. Box 491, Boquerón, PR 00622.
Amphibians
Salamander, reticulated flatwoods (Ambystoma bishopi) | Harold Mitchell, panamacity@fws.gov, 850-769-0552 | Endangered | Florida, Georgia | 74 FR 6700; 2/10/2009 | USFWS, 1601 Balboa Ave., Panama City, FL 32405.
Toad, Puerto Rican crested (Peltophryne lemur) | Carlos Pacheco, caribbean_es@fws.gov, 787-851-7297 | Threatened | Puerto Rico | 52 FR 28828; 8/4/1987 | USFWS, Road 301, Km 5.1, P.O. Box 491, Boquerón, PR 00622.
Fishes
Dace, blackside (Phoxinus cumberlandensis) | Mike Floyd, kentuckyes@fws.gov, 502-695-0468 | Threatened | Kentucky, Tennessee, Virginia | 52 FR 22580; 6/12/1987 | USFWS, 330 W. Broadway, Ste. 265, Frankfort, KY 40601.
Shiner, Cahaba (Notropis cahabae) | Jennifer Grunewald, alabama@fws.gov, 251-441-5181 | Endangered | Alabama | 55 FR 42961; 10/25/1990 | USFWS, 1208B Main Street, Daphne, AL 36526.
Clams
Elktoe, Cumberland (Alasmidonta atropurpurea) | Andy Ford, cookeville@fws.gov, 931-528-6481 | Endangered | Kentucky, Tennessee | 62 FR 1647; 1/10/1997 | USFWS, 446 Neal Street, Cookeville, TN 38501.
Pigtoe, Cumberland (Pleurobema gibberum) | Andy Ford, cookeville@fws.gov, 931-528-6481 | Endangered | Tennessee | 56 FR 21084; 5/7/1991 | USFWS, 446 Neal Street, Cookeville, TN 38501.
Pigtoe, finerayed (Fusconaia cuneolus) | Andrew Henderson, fw4esasheville@fws.gov, 828-258-3939 | Endangered | Alabama, Tennessee, Virginia | 41 FR 24062; 6/14/1976 | USFWS, 160 Zillicoa St., Asheville, NC 28801.
Pigtoe, heavy (Pleurobema taitianum) | Jennifer Grunewald, alabama@fws.gov, 251-441-5181 | Endangered | Alabama, Mississippi | 52 FR 11162; 4/7/1987 | USFWS, 1208B Main Street, Daphne, AL 36526.
Pocketbook, speckled (Lampsilis streckeri) | Chris Davidson, arkansas-es_ recovery@fws.gov, 501-513-4481 | Endangered | Arkansas | 54 FR 8339; 2/28/1989 | USFWS, 110 South Amity Rd. Suite 300, Conway, AR 72032.
Snails
Elimia, lacy (Elimia crenatella) | Morgan Brizendine, alabama@fws.gov, 251-441-5181 | Threatened | Alabama | 63 FR 57610; 10/28/1998 | USFWS, 1208B Main Street, Daphne, AL 36526.
Lioplax, cylindrical (Lioplax cyclostomaformis) | Morgan Brizendine, alabama@fws.gov, 251-441-5181 | Endangered | Alabama | 63 FR 57610; 10/28/1998 | USFWS, 1208B Main Street, Daphne, AL 36526.
Pebblesnail, flat (Lepyrium showalteri) | Morgan Brizendine, alabama@fws.gov, 251-441-5181 | Endangered | Alabama | 63 FR 57610; 10/28/1998 | USFWS, 1208B Main Street, Daphne, AL 36526.
Rocksnail, painted (Leptoxis taeniata) | Morgan Brizendine, alabama@fws.gov, 251-441-5181 | Threatened | Alabama | 63 FR 57610; 10/28/1998 | USFWS, 1208B Main Street, Daphne, AL 36526.
Rocksnail, plicate (Leptoxis plicata) | Morgan Brizendine, alabama@fws.gov, 251-441-5181 | Endangered | Alabama | 63 FR 57610; 10/28/1998 | USFWS, 1208B Main Street, Daphne, AL 36526.
Rocksnail, round (Leptoxis ampla) | Morgan Brizendine, alabama@fws.gov, 251-441-5181 | Endangered | Alabama | 63 FR 57610; 10/28/1998 | USFWS, 1208B Main Street, Daphne, AL 36526.

Scientific name/ common name | Contact person, email, phone | Status (endangered or threatened) | States where the species is known to occur | Final listing rule (Federal Register citation and publication date) | Contact's mailing address
PLANTS
Flowering Plants
Apios priceana (Price's potato-bean) | Scott Wiggers, mississippi_field_office@fws.gov, 601-321-1126 | Threatened | Alabama, Illinois, Kentucky, Mississippi, Tennessee | 55 FR 429; 1/5/1990 | USFWS, 6578 Dogwood View Pkwy., Jackson, MS 39213.
Calyptronoma rivalis (palma de manaca) | Maritza Vargas, caribbean_es@fws.gov, 787-851-7297 | Threatened | Puerto Rico | 55 FR 4157; 2/6/1990 | USFWS, Road 301, Km 5.1, P.O. Box 491, Boquerón, PR 00622.
Carex lutea (golden sedge) | Dale Suiter, Raleigh_ES@fws.gov, 919-856-4520 | Endangered | North Carolina | 67 FR 3120; 1/23/2002 | USFWS, 551 Pylon Drive, #F, Raleigh, NC 27606.
Chamaecrista glandulosa var. mirabilis (no common name) | José G. Martínez, caribbean_es@fws.gov, 787-851-7297 | Endangered | Puerto Rico | 55 FR 12788; 4/5/1990 | USFWS, Road 301, Km 5.1, P.O. Box 491, Boquerón, PR 00622.
Cranichis ricartii (no common name) | José G. Martínez, caribbean_es@fws.gov, 787-851-7297 | Endangered | Puerto Rico | 56 FR 60933; 11/29/1991 | USFWS, Road 301, Km 5.1, P.O. Box 491, Boquerón, PR 00622.
Dalea foliosa (leafy prairie-clover) | Geoff Call, cookeville@fws.gov, 931-528-6481 | Endangered | Alabama, Illinois, Tennessee | 56 FR 19953; 5/1/1991 | USFWS, 446 Neal Street, Cookeville, TN 38501.
Leptocereus grantianus (no common name) | Carlos Pacheco, caribbean_es@fws.gov, 787-851-7297 | Endangered | Puerto Rico | 58 FR 11550; 2/26/1993 | USFWS, Road 301, Km 5.1, P.O. Box 491, Boquerón, PR 00622.
Marshallia mohrii (Mohr's Barbara's buttons) | Scott Wiggers, mississippi_field_office@fws.gov, 601-321-1126 | Threatened | Alabama, Georgia | 53 FR 34698; 9/7/1988 | USFWS, 6578 Dogwood View Pkwy., Jackson, MS 39213.
Oxypolis canbyi (Canby's dropwort) | April Punsalan, charleston_recovery@fws.gov, 843-727-4707 | Endangered | Delaware, Georgia, Maryland, North Carolina, South Carolina | 51 FR 6690 2/25/1986 | USFWS, 176 Croghan Spur, Suite 200, Charleston, SC 29407.
Platanthera integrilabia (white fringeless orchid) | Geoff Call, cookeville@fws.gov, 931-528-6481 | Threatened | Alabama, Georgia, Kentucky, Mississippi, South Carolina, Tennessee | 81 FR 62826; 9/13/2016 | USFWS, 446 Neal Street, Cookeville, TN 38501.
Ribes echinellum (Miccosukee gooseberry) | Vivian Negron-Ortiz, panamacity@fws.gov, 850-769-0552 | Threatened | Florida, South Carolina | 50 FR 29338; 7/18/1985 | USFWS, 1601 Balboa Ave., Panama City, FL 32405.
Schoepfia arenaria (no common name) | José G. Martínez, caribbean_es@fws.gov, 787-851-7297 | Threatened | Puerto Rico | 56 FR 16021; 4/19/1991 | USFWS, Road 301, Km 5.1, P.O. Box 491, Boquerón, PR 00622.
Solanum drymophilum (erubia) | Maritza Vargas, caribbean_es@fws.gov, 787-851-7297 | Endangered | Puerto Rico | 53 FR 32827; 8/26/1988 | USFWS, Road 301, Km 5.1, P.O. Box 491, Boquerón, PR 00622.
Zanthoxylum thomasianum (St. Thomas prickly-ash) | Jaime Yrigoyen, caribbean_es@fws.gov, 787-851-7297 | Endangered | Puerto Rico, Virgin Islands | 50 FR 51867; 12/20/1985 | USFWS, Road 301, Km 5.1, P.O. Box 491, Boquerón, PR 00622.
Non-Flowering Plants
Thelypteris inabonensis, T. verecunda, T. yaucoensis (no common names) | Maritza Vargas, caribbean_es@fws.gov, 787-851-7297 | Endangered | Puerto Rico | 58 FR 35887; 7/2/1993 | USFWS, Road 301, Km 5.1, P.O. Box 491, Boquerón, PR 00622.

What information do we consider in our 5-year reviews?

A 5-year review considers all new information available at the time of the review. In conducting the review, we consider the best scientific and commercial data that have become available since the most recent status review. We are seeking new information specifically regarding:

(1) Species biology, including but not limited to life history and habitat requirements and impact tolerance thresholds;

(2) Historical and current population conditions, including but not limited to population abundance, trends, distribution, demographics, and genetics;

(3) Historical and current habitat conditions, including but not limited to amount, distribution, and suitability;

(4) Historical and current threats, threat trends, and threat projections in relation to the five listing factors (as defined in section 4(a)(1) of the ESA);

(5) Conservation measures for the species that have been implemented or are planned; and

(6) Other new information, data, or corrections, including but not limited to taxonomic or nomenclatural changes, identification of erroneous information contained in the List, and improved analytical methods.

Any new information received will be considered during the 5-year review and ongoing recovery programs for the species.

Request for New Information

To ensure that 5-year reviews are based on the best available scientific and commercial information, we request new information from all sources. Please use the contact information listed in the table above that is associated with the species for which you are submitting information. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. Individuals who are hearing impaired or speech impaired may call the Federal Relay Service at 1-800-877-8339 for TTY assistance.

Public Availability of Comments

Before including your address, phone number, electronic mail address, or other personal identifying information in your submission, you should be aware that your entire submission—including your personal identifying information—may be made publicly available at any time. Although you can request that personal information be withheld from public review, we cannot guarantee that we will be able to do so.

Authority

This document is published under the authority of the Endangered Species Act of 1973, as amended (16 U.S.C. 1531 et seq.).

Leopoldo Miranda-Castro,
Regional Director, South Atlantic-Gulf and Mississippi Basin Regions.

[FR Doc. 2021-13170 Filed 6-22-21; 8:45 am]

BILLING CODE 4333-15-P